DEPARTMENT OF DEFENSE

Office of the Secretary

[Transmittal No. 20-12]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-12 with attached Policy Justification and Sensitivity of Technology.

Dated: March 10, 2020.
Aaron T. Siegel,
Alternate OSD Federal Register Liaison Officer, Department of Defense.

BILLING CODE 5001-06-P

BILLING CODE 5001-06-C

Transmittal No. 20-12

Notice of Proposed Issuance of Letter of Offer Pursuant to Section 36(b)(1) of the Arms Export Control Act, as amended

(i) Prospective Purchaser: Government of Israel

(ii) Total Estimated Value:

Major Defense Equipment * | $2.25 billion
Other | $0.15 billion
Total | $2.40 billion

(iii) Description and Quantity or Quantities of Articles or Services under Consideration for Purchase:

Major Defense Equipment (MDE):

Up to eight (8) KC-46 Aircraft

Up to seventeen (17) PW4062 Turbofan Engines (16 installed, 1 spare)

Up to eighteen (18) MAGR 2K-GPS SAASM Receivers (16 installed, 2 spares)

Non-MDE:

Also included are AN/ARC-210 U/VHF radios, APX-119 Identification Friend or Foe transponders, initial spares and repair parts, consumables, support equipment, technical data, engineering change proposals, publications, Field Service Representatives (FSRs), repair and return, depot maintenance, training and training equipment, contractor technical and logistics personnel services, U.S. Government and contractor representative support, Group A and B installation for subsystems, flight test and certification, other related elements of logistics support and training.

(iv) Military Department: Air Force (IS-D-YAG)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 3, 2020

*As defined in Section 47(6) of the Arms Export Control Act.

POLICY JUSTIFICATION

Israel—KC-46A Aerial Refueling Aircraft

The Government of Israel has requested to buy up to eight (8) KC-46 aircraft; up to seventeen (17) PW4062 turbofan engines (16 installed, 1 spare); and up to eighteen (18) MAGR 2K-GPS SAASM receivers (16 installed, 2 spares). Also included are AN/ARC-210 U/VHF radios, APX-119 Identification Friend or Foe transponders, initial spares and repair parts, consumables, support equipment, technical data, engineering change proposals, publications, Field Service Representatives (FSRs), repair and return, depot maintenance, training and training equipment, contractor technical and logistics personnel services, U.S. Government and contractor representative support, Group A and B installation for subsystems, flight test and certification, other related elements of logistics support and training. The total estimated program cost is $2.4 billion.

The United States is committed to the security of Israel, and it is vital to U.S. national interests to assist Israel to develop and maintain a strong and ready self-defense capability. This proposed sale is consistent with those objectives.

The proposed sale further supports the foreign policy and national security of the United States by allowing Israel to provide a redundant capability to U.S. assets within the region, potentially freeing U.S. assets for use elsewhere during times of war. Aerial refueling and strategic airlift are consistently cited as significant shortfalls for our allies. In addition, the sale improves Israel's national security posture as a key U.S. ally. Israel will have no difficulty absorbing this equipment into its armed forces.

The proposed equipment and support will not alter the basic military balance in the region.

The principal contractors will be Boeing Corporation, Everett, WA, for the aircraft; and Raytheon Company, Waltham, MA, for the MAGR 2K. There are no known offset agreements proposed in connection with this potential sale.

Implementation of this proposed sale will require the assignment of two U.S. field service/contractor representatives to Israel.

There will be no adverse impact on U.S. defense readiness as a result of this proposed sale.

Transmittal No. 20-12

Notice of Proposed Issuance of Letter of Offer Pursuant to Section 36(b)(1) of the Arms Export Control Act

Annex

Item No. vii

(vii) Sensitivity of Technology:

1. The Boeing KC-46 is an aerial refueling aircraft with two (2) Pratt & Whitney Model 4062 (PW4062) Turbofan engines. The KC-46 evolved from the Boeing 767-200ER passenger aircraft and the 767-2C provision freighter. Refueling systems and military avionics have been added to the aircraft.

2. The Miniature Airborne Global Positioning System Receiver 2000 (MAGR 2K) with Selective Availability Anti-Spoofing Module (SAASM) design is a GPS Receiver Applications Module based open system architecture that is modular in design and incorporates modern electronics. The MAGR 2K is a form, fit, and function backward compatible replacement of the MAGR, and provides enhancements including improved acquisition and GPS solution performance, all-in-view GPS satellite tracking and GPS integrity.

3. If a technologically advanced adversary were to obtain knowledge of the specific hardware and software elements, the information could be used to develop countermeasures or equivalent systems which might reduce system effectiveness or be used in the development of a system with similar or advanced capabilities.

4. A determination has been made that Israel can provide substantially the same degree of protection for the sensitive technology being released as the U.S. Government. This sale is necessary in furtherance of the U.S. foreign policy and national security objectives outlined in the Policy Justification.

5. All defense articles and services listed in this transmittal have been authorized for release and export to the Government of Israel.

[FR Doc. 2020-05387 Filed 3-16-20; 8:45 am]

BILLING CODE 5001-06-P